DEPARTMENT OF HEALTH AND HUMAN SERVICES

National Institutes of Health

Request for Information (RFI) on NIDCD's Research Directions To Support Communication in Minimally Verbal/Non-Speaking People

AGENCY: National Institutes of Health, HHS.

ACTION: Request for information.

SUMMARY: The National Institute on Deafness and Other Communication Disorders (NIDCD) asks for input on research directions to support communication in minimally verbal/non-speaking people. NIDCD invites anyone with interests in communication in minimally verbal/non-speaking people to provide input from a personal, service delivery, or research view. Responses to this RFI will be used for planning purposes. The NIDCD will use the information submitted in response to this RFI at its discretion and will not provide comments to any responder's submission.

DATES: The NIDCD's RFI is open for public comment until 11:59:59 p.m. (ET) on August 1, 2023. After the public comment period has closed, the comments received by NIDCD will be considered in a timely manner.

ADDRESSES: All responses to this RFI must be submitted at https://www.nidcd.nih.gov/nidcd-minimally-verbal-rfi by August 1, 2023.

FOR FURTHER INFORMATION CONTACT: Questions about this request for information should be directed to Holly Storkel, National Institute on Deafness and Other Communication Disorders, NIDCDMinVerbRFI@nidcd.nih.gov, 301-451-6842.

SUPPLEMENTARY INFORMATION: This RFI is in accordance with 42 U.S.C. 285 of the Public Health Service Act, as amended. The NIDCD held a virtual workshop (https://www.nidcd.nih.gov/news/events/minimally-verbalnon-speaking-individuals-autism-research-directions-interventions) on January 24-25, 2023. This workshop focused on new research needed to support communication by minimally verbal/non-speaking autistic people. The workshop produced many themes for further research for these individuals including:

• increasing community engagement in research

• improving technology

• exploring the range of communication skills and needs

• using different research approaches to personalize interventions

• expanding the range of skills and outcomes that interventions focus on to improve communication

• expanding the range of evaluation and outcome measures that can reliably assess individual needs

NIDCD now seeks to understand the broader needs and priorities of:

• the larger community of minimally verbal/non-speaking people (including and beyond autistic people)

• professionals and others who support minimally verbal/non-speaking people

• researchers focusing on communication in minimally verbal/non-speaking people

• any other interested party

NIDCD is interested in receiving comments on any or all of the following questions:

1. What are the biggest communication needs for minimally verbal/non-speaking people?

2. What are the greatest roadblocks to supporting and improving communication for minimally verbal/non-speaking people?

3. What are the highest priority research targets to advance communication for minimally verbal/non-speaking individuals?

4. What are the best ways to increase partnerships between researchers and minimally verbal/non-speaking people to guide research projects?

This RFI is for planning purposes only and should not be construed as a solicitation for applications or proposals, or as an obligation in any way on the part of the United States Federal Government. The Federal Government will not pay for the preparation of any information submitted or for the Government's use. Additionally, the Government cannot guarantee the confidentiality of the information provided.

Debara L. Tucci,
Director, National Institute on Deafness and Other Communication Disorders, National Institutes of Health.

[FR Doc. 2023-13354 Filed 6-22-23; 8:45 am]

BILLING CODE 4140-01-P